DEPARTMENT OF EDUCATION

National Assessment Governing Board

Draft Reading Assessment Framework for the 2025 National Assessment of Educational Progress

AGENCY: National Assessment Governing Board, U.S. Department of Education.

ACTION: Notice of opportunity for public comment for the Reading Assessment Framework for the 2025 National Assessment of Educational Progress (NAEP).

SUMMARY: The National Assessment Governing Board (Governing Board) is soliciting public comment for guidance in updating the Assessment Framework for the 2025 National Assessment of Educational Progress (NAEP) in Reading. The Governing Board is authorized to formulate policy guidelines for NAEP. Section 302(e)(1)(c) of Public Law 107-279 s specifies that the Governing Board determines the content to be assessed for each NAEP Assessment. Each NAEP subject area assessment is guided by a framework that defines the scope of the domain to be measured by delineating the knowledge and skills to be tested at each grade and subject, the format of the assessment, and the achievement level definitions—guiding assessments that are valid, reliable, and reflective of widely accepted professional standards. The NAEP Reading Assessment Framework was last revised in 2004. It is anticipated that the current update of the NAEP Reading Assessment Framework will be presented for approval at the National Assessment Governing Board quarterly meeting on November 19-21, 2020. Public and private parties and organizations are invited to provide written comments and recommendations on the draft framework. This notice sets forth the review schedule and provides information for accessing additional materials that will be informative and useful for this review.

DATES: Comments must be received no later than July 23, 2020.

ADDRESSES: Comments should be uploaded at the following URL: https://www.naepframeworkupdate.org. Comments may also be provided via email at naepreading@wested.org.

FOR FURTHER INFORMATION CONTACT: Michelle Blair, National Assessment Governing Board, 800 North Capitol Street NW, Suite 825, Washington, DC 20002-4233, Telephone: (202) 357-0396.

If you use a telecommunications device for the deaf (TDD) or a text telephone (TTY), call the Federal Relay Service (FRS), toll-free, at 1-800-877-8339.

SUPPLEMENTARY INFORMATION: Assessment and Item Specifications elaborate on the framework as guidance for item development conducted by the National Center for Education Statistics (NCES) and the NAEP assessment development contractor(s). The framework development and update process also produces recommendations for contextual variables, which supports NCES' development of the questionnaires administered to students, teachers, and schools to help the public understand the achievement results in each subject. By engaging NAEP's audiences, partners, and stakeholders in the panels that provide recommendations for NAEP frameworks and by seeking public comment, NAEP frameworks reflect content valued by the public as important to measure. Additional information on the Governing Board's work in developing NAEP Frameworks and Specifications can be found at https://www.nagb.gov/naep-frameworks/frameworks-overview.html.

All responses will be taken into consideration before finalizing the updated NAEP Reading Assessment Framework for Board adoption. Once adopted, the framework will be used to guide assessment development and reporting for the 2025 NAEP Reading Assessment.

Additional information (including the materials referenced below) can be found on the project website at https://www.naepframeworkupdate.org.

Proposed Updated Reading Framework for the 2025 NAEP

Starting on June 22, 2020, the proposed revised framework can be downloaded from the framework project website at https://www.naepframeworkupdate.org.

Existing Reading Framework for the NAEP

The existing framework (adopted in 2004) can be downloaded from the Governing Board website at https://www.nagb.gov/naep-frameworks/reading.html.

Governing Board's Periodic Review and Updating of NAEP Frameworks

Governing Board policy articulates the Board's commitment to a comprehensive, inclusive, and deliberative process to determine and update the content and format of all NAEP assessments. For each NAEP assessment, this process results in a NAEP framework, outlining what is to be measured and how it will be measured. Periodically, the Governing Board reviews existing NAEP frameworks to determine if changes are warranted. Each NAEP framework development and update process considers a wide set of factors, including but not limited to reviews of recent research on teaching and learning, changes in state and local standards and assessments, and the latest perspectives on the nation's future needs and desirable levels of achievement.

In 2018, the Board initiated a review of the NAEP Reading Framework. The Governing Board's NAEP Reading Framework review used expert commentary to determine whether a framework update was required and the type of updates that may be needed. As a result of this review, the Governing Board initiated a framework update process for the NAEP Reading Assessment. Learn more about the review at https://www.nagb.gov/focus-areas/framework-development/framework-development-reading.html.

Summary of Proposed Revisions

Compared to the existing NAEP Reading Framework for the 2009-2019 NAEP Reading Assessments, the draft updated framework proposes the following changes:

• Reporting scores in three different areas: Reading literature, reading science, and reading social studies, rather than reporting scores by literary and informational texts.

• Making all assessment tasks purpose-driven, rather than having a subset of tasks that are purpose-driven. In purpose-driven tasks, students are told why they are reading a passage and what they will be doing with it afterward, before they begin reading.

• Adding `Use and Apply' to the three comprehension targets that are scored, meaning that students will be asked to apply their reading to a culminating task such as making a recommendation, developing a website, and the like. The four comprehension targets would be Locate and Recall, Integrate and Interpret, Analyze and Evaluate and Use and Apply.

• Providing a basis for not only reporting but also explaining student achievement by collecting and reporting data about students' engagement, effort, and experiences with reading tasks.

• Accounting for students' differential knowledge by providing necessary background knowledge on novel topics and administering short probes to determine test-takers' knowledge about topics they will read about.

• Including digital forms of text that are dynamic and multimodal and that require navigation as well as comprehension skills.

• Introducing an expanded view of vocabulary that goes beyond individual word meanings to also include knowledge of language structures.

Electronic Access to this Document: The official version of this document is the document published in the Federal Register. Internet access to the official edition of the Federal Register and the Code of Federal Regulations is available via the Federal Digital System at: www.gpo.gov/fdsys. This site allows the public to view this document, as well as all other documents of this Department published in the Federal Register, in text or Adobe Portable Document Format (PDF). To use PDF, you must have Adobe Acrobat Reader, which is available free at the Adobe website. You may also access documents of the Department published in the Federal Register by using the article search feature at: www.federalregister.gov. Specifically, the advanced search feature at this site allow searches to documents published by the Department.

Authority: Pub. L. 107-279, Title III—National Assessment of Educational Progress § 301.

Lesley Muldoon,
Executive Director, National Assessment Governing Board (NAGB), U.S. Department of Education.

[FR Doc. 2020-12693 Filed 6-11-20; 8:45 am]

BILLING CODE 4000-01-P